ENVIRONMENTAL PROTECTION AGENCY

[FRL-7124-4]

Pemaco Superfund Site; Notice of Proposed Administrative Settlement

AGENCY: Environmental Protection Agency (EPA).

ACTION: Notice; request for public comment.

SUMMARY: In accordance with the Comprehensive Environmental Response, Compensation and Liability Act of 1980, as amended by the Superfund Amendments and Reauthorization Act of 1986 (CERCLA), 42 U.S.C. 9600 et seq., notice is hereby given that a proposed Agreement and Covenant Not to Sue (Prospective Purchaser Agreement) associated with the Pemaco National Priorities List Superfund Site was executed by the United States Environmental Protection Agency (EPA) on December 7, 2001. The proposed Prospective Purchaser Agreement would resolve certain potential claims of the United States under sections 106 and 107(a) of CERCLA, 42 U.S.C. 9606 and 9607(a), and section 7003 of the Resource Conservation and Recovery Act (RCRA), 42 U.S.C. 6973, against The Trust for Public Lands, a nonprofit corporation, and The City of Maywood, Caifornia, (the Purchasers). The Trust for Public Lands plans to acquire the 5-acre parcel constituting the Superfund Site, located in Los Angeles County at 5050 Slauson Avenue, Maywood, California (the Property). The Trust for Public Land plans to transfer the Property to the City for use as a public park. The park will be part of the Los Angeles River Greenway, a system of public parks and paths along a 51-mile stretch of the Los Angeles River.

In exchange for the settlement, the Purchasers have agreed to pay EPA a one-time payment of $10,000 in cash that will be placed in a special account for use at the Site.

For thirty (30) calendar days following the date of publication of this notice, EPA will receive written comments relating to the proposed settlement. If requested prior to the expiration of this public comment period, EPA will provide an opportunity for a public meeting in the affected area. EPA's response to any comments received will be available for public inspection at the U.S. Environmental Protection Agency, 75 Hawthorne Street, San Francisco, CA 94105.

DATES: Comments must be submitted on or before February 4, 2002.

ADDRESSES: The proposed Prospective Purchaser Agreement and additional background documents relating to the settlement are available for public inspection at the U.S. Environmental Protection Agency, 75 Hawthorne Street, San Francisco, CA 94105. A copy of the proposed settlement may be obtained from William Keener, Assistant Regional Counsel (ORC-1), Office of Regional Counsel, U.S. EPA Region IX, 75 Hawthorne Street, San Francisco, CA 94105. Comments should reference “The Trust for Public Lands PPA, Pemaco Superfund Site” and “Docket No. 2002-03” and should be addressed to William Keener at the above address.

FOR FURTHER INFORMATION CONTACT: William Keener, Assistant Regional Counsel (ORC-1), Office of Regional Counsel, U.S. EPA Region IX, 75 Hawthorne Street, San Francisco, CA 94105; phone: (415) 972-3940; fax (415) 947-3570; e-mail: keener.bill@epa.gov.

Dated: December 12, 2001.
Jane Diamond,
Acting Director, Superfund Division, Region IX.

[FR Doc. 02-110 Filed 1-2-02; 8:45 am]

BILLING CODE 6560-50-P